DEPARTMENT OF TRANSPORTATION

National Highway Traffic Safety Administration

49 CFR Part 576

[Docket No. NHTSA-2019-0035]

RIN 2127-AL81

Record Retention Requirement; Proposed Rule; Correction

AGENCY: National Highway Traffic Safety Administration (NHTSA), Department of Transportation (DOT).

ACTION: Proposed rule; correction

SUMMARY: The National Highway Traffic Safety Administration (NHTSA) published a document in the Federal Register of May 15, 2019, proposing changes to NHTSA's records retention requirements. The document contained outdated information that is now being updated along with other minor corrections.

DATES: August 8, 2019.

ADDRESSES: You may submit written comments to the docket number identified in the heading of this document by any of the following methods:

• Federal eRulemaking Portal: Go to http://www.regulations.gov. Follow the online instructions for submitting comments.

• Mail: Docket Management Facility, U.S. Department of Transportation, West Building Ground Floor, Rm. W12-140, 1200 New Jersey Avenue SE, Washington, DC 20590.

• Hand Delivery or Courier: U.S. Department of Transportation, West Building Ground Floor, Rm. W12-140, 1200 New Jersey Avenue SE, Washington, DC 20590 between 9 a.m. and 5 p.m. ET, Monday through Friday, except Federal holidays.

• Fax: (202) 493-2251.

Regardless of how you submit your comments, please be sure you mention the docket number of this document located at the top of this notice in your correspondence.

You may call the Docket at 202-366-9826.

Note that all comments received will be posted without change to http://www.regulations.gov, including any personal information provided. Please see the Privacy Act discussion below.

Privacy Act: Anyone is able to search the electronic form of all comments received into our dockets by the name of the individual submitting the comment (or signing the comment, if submitted on behalf of an association, business, labor union, etc.). You may review DOT's complete Privacy Act Statement, in the Federal Register published on April 11, 2000. 65 FR 19477-78.

Confidential Information: If you wish to submit any information under a claim of confidentiality, you should submit two copies of your complete submission, including the information you claim to be confidential business information, and one copy with the claimed confidential business information deleted from the document, to the Chief Counsel, NHTSA, at the address given below under FOR FURTHER INFORMATION CONTACT. In addition, you should submit two copies, from which you have deleted the claimed confidential business information, to Docket Management at the address given above under ADDRESSES. When you send a comment containing information claimed to be confidential business information, you should follow the procedures set forth in 49 CFR part 512 and include a cover letter setting forth the information specified in our confidential business information regulation. 49 CFR part 512.

Docket: For access to the docket to read background documents or comments received, go to http://www.regulations.gov and follow the online instructions for accessing the dockets or go to the street address listed above.

FOR FURTHER INFORMATION CONTACT: Thomas Healy, Trial Attorney, Office of the Chief Counsel, National Highway Traffic Safety Administration, 1200 New Jersey Avenue SE, Washington, DC 20590 (telephone: 202-366-2992).

SUPPLEMENTARY INFORMATION:

Correction

This notice is to correct citations included in a notice of proposed rulemaking published in the Federal Register on May 15, 2019, on amendments to the record retention requirements (84 FR 21741). NHTSA is correcting the following text in the Federal Register Document Number 2019-09844.

On page 21741, in first paragraph of the third column, correct “we have determined that a ten-year records retention requirement would ensure that the agency's investigative needs are meet without unnecessarily burdening manufacturers of motor vehicles and equipment.” to “we have determined that a ten-year records retention requirement would ensure that the agency's investigative needs are met without unnecessarily burdening manufacturers of motor vehicles and equipment.”

On page 21742, in the third paragraph of the second column, correct “The average age of the United States light vehicle fleet has been trending upward reaching 11.6 years in 2016” to “The average age of the United States light vehicle fleet has been trending upward reaching 11.7 years in 2017.”

Again on page 21742, correct corresponding footnote 2 “Vehicles Getting Older: Average Age of Light Cars and Trucks in U.S. Rises Again in 2016 to 11.6 Years, HIS Markit Says, IHS Markit (Nov. 22, 2016), https://news.ihsmarkit.com/press-release/automotive/vehicles-getting-older-average-age-lightcars-and-trucks-us-rises-again-201 (last visited Sept. 19, 2018)” to “America's Cars and Trucks are Getting Older, Business Insider (Aug. 22, 2018), https://www.businessinsider.com/americas-cars-and-trucks-are-getting-older-2018-8 (last visited April 26, 2019).”

Yet again on page 21742, correct footnote 3, “Average Age of Automobiles and Trucks in Use, 1970-1999, Fed. Highway Admin., https://www.fhwa.dot.gov/ohim/onh00/line3.htm (last visited Sept. 19, 2018). From 1977 to 2017 the average of medium and heavy duty trucks increased from 11.6 years to 17.3 years and the average age of recreational vehicles increased from 4.5 years to 15.8 years. See Average Age of Automobiles and Trucks in Operation in the United States, Bureau of Transp. Statistics, https://www.bts.gov/content/average-age-automobiles-and-trucks-operation-united-states (last visited Sept. 19, 2018).” to “Average Age of Automobiles and Trucks in Use, 1970-1999, Fed. Highway Admin., https://www.fhwa.dot.gov/ohim/onh00/line3.htm (last visited April 26, 2019). From 1977 to 2017, the average of medium and heavy duty trucks increased from 11.6 years to 17.3 years and the average age of recreational vehicles increased from 4.5 years to 15.8 years. See Average Age of Automobiles and Trucks in Operation in the United States, Bureau of Transp. Statistics, https://www.bts.gov/content/average-age-automobiles-and-trucks-operation-united-states (last visited April 26, 2019).”

Again on page 21742, correct footnote 4, “Average age of cars on U.S. roads breaks record, USA Today (July 29, 2015), http://www.usatoday.com/story/money/2015/07/29/new-car-sales-soaring-but-cars-getting-older-too/30821191/ (last visited May 11, 2018) (citing an IHS Automotive study).” to “Average age of cars on U.S. roads breaks record, USA Today (July 29, 2015), http://www.usatoday.com/story/money/2015/07/29/new-car-sales-soaring-but-cars-getting-older-too/30821191/ (last visited April 26, 2019) (citing an IHS Automotive study).”

On page 21743, in the first column, correct “At the time, NHTSA determined that the costs of extending the records requirement to eight years outweigh the benefits” to “At the time, NHTSA determined that the costs of extending the records requirement to eight years outweighed the benefits.”

Again on page 21743, correct footnote 13, “Child restraint system manufacturers are not required to report property the number of damage claims they received and tire manufacturers are only required to report the number of property damage claims and warranty adjustments.” to “Child restraint system manufacturers are not required to report the number of property damage claims they received and tire manufacturers are only required to report the number of property damage claims and warranty adjustments.”

Issued in Washington, DC, under authority delegated in 49 CFR 1.95 and 501.5.
Heidi Renate King,
Deputy Administrator.

[FR Doc. 2019-16844 Filed 8-7-19; 8:45 am]

BILLING CODE 4910-59-P